DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer at (301) 443-1129.

Comments are invited on: (a) The proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project: The Stem Cell Therapeutic Outcomes Database (OMB No. 0915-0310)—Extension

The Stem Cell Therapeutic and Research Act of 2005 provides for the collection and maintenance of human cord blood stem cells for the treatment of patients and research. The Health Resources and Services Administration's (HRSA) Healthcare Systems Bureau (HSB) has established the Stem Cell Therapeutic Outcomes Database. Operation of this database necessitates certain recordkeeping and reporting requirements in order to perform the functions related to hematopoietic stem cell transplantation under contract to HHS. The Act requires the Secretary to contract for the establishment and maintenance of information related to patients who have received stem cell therapeutic products and to do so using a standardized, electronic format. Data is collected from transplant centers in a manner similar to the data collection activities conducted by the Center for International Blood and Marrow Transplant Research (CIBMTR) and is used for ongoing analysis of transplant outcomes. HRSA uses the information in order to carry out its statutory responsibilities. Information is needed to monitor the clinical status of transplantation and to provide the Secretary with an annual report of transplant center-specific survival data.

The estimate of burden is as follows:

Reporting | Number of respondents | Responses per respondent | Total responses | Hours per response | Total burden hours
Baseline Patient/Day of Transplant Data | 250 | 40 | 8,000 | 2.25 | 18,000
Product Receipt/Analysis/Preparation Data | 250 | 40 | 8,000 | 1 | 8,000
100-Day Post-Transplant Data | 250 | 40 | 8,000 | 2.25 | 18,000
6-Month Post-Transplant Data | 250 | 28 | 5,538 | 2.25 | 12,460.5
12-Month Post-Transplant Data | 250 | 22 | 4,308 | 2.25 | 9,693
Annual Post-Transplant Data (year two and beyond) | 250 | 40 | 8,000 | 2.25 | 18,000
Death Information | 250 | 25 | 4,923 | 0.5 | 2,461.5
Total | 250 |  | 46,769 |  | 86,615

E-mail comments to paperwork@hrsa.gov or mail the HRSA Reports Clearance Officer, Room 10-33, Parklawn Building, 5600 Fishers Lane, Rockville, MD 20857. Written comments should be received within 60 days of this notice.

Dated: April 14, 2010.
Sahira Rafiullah,
Director, Division of Policy and Information Coordination.

[FR Doc. 2010-9066 Filed 4-19-10; 8:45 am]

BILLING CODE 4165-15-P